FEDERAL COMMUNICATIONS COMMISSION

[Report No. 2400]

Petitions for Reconsideration of Action in Rulemaking Proceedings

April 3, 2000.

Petitions for Reconsideration have been filed in the Commission's rulemaking proceedings listed in this Public Notice and published pursuant to 47 CFR Section 1.429(e). The full text of these documents are available for viewing and copying in Room CY-A257, 445 12th Street, S.W., Washington, DC or may be purchased from the Commission's copy contractor, ITS, Inc. (202) 857-3800. Oppositions to this petition must be filed by April 24, 2000. See Section 1.4(b)(1) of the Commission's rules (47 CFR 1.4(b)(1)). Replies to an opposition must be filed within 10 days after the time for filing oppositions has expired.

Subject: In the Matter of Creation of a Low Power Radio Service (MM Docket No. 99-25).

Number of Petitions Filed: 18.

Subject: Amendment of Part 90 of the Commission's Rules to Facilitate Future Development of SMR Systems in the 800 MHz Frequency Band (PR Docket No. 93-144).

Number of Petitions Filed: 1.

Federal Communications Commission.
Magalie Roman Salas,
Secretary.

[FR Doc. 00-8592 Filed 4-6-00; 8:45 am]

BILLING CODE 6712-01-M